DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: West Coast Region Federal Fisheries Permits—Northwest.

OMB Control Number: 0648-0203.

Form Number(s): None.

Type of Request: Regular (revision and extension of a currently approved information collection).

Number of Respondents: 537.

Average Hours per Response: Permit renewals, 20 minutes; Permit transfers, 30 minutes; Sablefish ownership interest form, 10 minutes ; EFP Applications, 32 hours; EFP Trip Notifications 2 minutes; EFP Harvest Plans: 16 hours; EFP Data Reports: 2 hours;; EFP Summary Reports: interim report, 4 hours; final report, 20 hours.

Burden Hours: 2,000.

Needs and Uses: This request is for extension of a currently approved information collection.

The Magnuson-Stevens Act (16 U.S.C. 1801) provides that the Secretary of Commerce is responsible for the conservation and management of marine fisheries resources in Exclusive Economic Zone (3-200 miles) of the United States (U.S.). NOAA Fisheries, West Coast Region—Northwest manages the Pacific Coast Groundfish Fishery in the Exclusive Economic Zone (EEZ) off Washington, Oregon, and California under the Pacific Coast Groundfish Fishery Management Plan. The regulations implementing the Pacific Groundfish Fishery require that those vessels participating in the limited entry fishery to be registered to a valid limited entry permit. Participation in the fishery and access to a limited entry permit has been restricted to control the overall harvest capacity. The regulations implementing the limited entry program are found at 50 CFR part 660, subpart G.

NOAA Fisheries seeks comment on the extension of permit information collections required for: (1) Renewal and transfer of Pacific Coast Groundfish limited entry permits; (2) implementation of certain provisions of the sablefish permit stacking program as provided for at 50 CFR 660.231 and 660.25; and (3) issuing and fulfilling the terms and conditions of certain exempted fishing permits (EFPs).

Also, NOAA Fisheries requires an information collection to implement certain aspects of the sablefish permit stacking program which prevents excessive fleet consolidation. As part of the annual renewal process, NOAA Fisheries requires a corporation or partnership that owns or holds (as vessel owner) a sablefish endorsed permit to provide a complete ownership interest form listing all individuals with ownership interest in the entity. Similarly, any sablefish endorsed permit transfer involving registration of a business entity requires an ownership interest form if either the permit owner or vessel owner is a corporation or partnership. This information is used to determine if individuals own or hold sablefish permits in excess of the limit of 3 permits. Also, for transfer requests made during the sablefish primary season (April 1st through October 31st), the permit owner is required to report the remaining tier pounds not yet harvested on the sablefish endorsed permit at the time of transfer.

Applicants for an exempted fishing permit (EFP) must submit written information that allows NOAA Fisheries and the Pacific Fishery Management Council to evaluate the proposed exempted fishing project activities and weigh the benefits and costs of the proposed activities. The Council makes a recommendation on each EFP application and for successful applicants, NOAA Fisheries issues the EFPs which contains terms and conditions for the project including various reporting requirements. The information included in an application is specified at 50 CFR 600.745(b)(2) and the Council Operating Procedure #19. Permit holders are required to file preseason harvest plans, interim and/or final summary reports on the results of the project and in some cases individual vessels and other permit holders are required to provide data reports (logbooks and/or catch reports The results of EFPs are commonly used to explore ways to reduce effort on depressed stocks, encourage innovation and efficiency in the fishery, provide access to constrained stocks which directly measuring the bycatch associated with such strategies and evaluate/revise current and proposed management measures.

Affected Public: Business or other for-profit organizations, individuals or households, not-for-profit institutions; state, local or tribal government.

Frequency: Annually, semi-annually, monthly and on occasion.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: July 5, 2016.
Sarah Brabson,
NOAA PRA Clearance Officer.

[FR Doc. 2016-16173 Filed 7-7-16; 8:45 am]

BILLING CODE 3510-22-P